DEPARTMENT OF TRANSPORTATION

National Highway Traffic Safety Administration

[Docket No. NHTSA-2019-0070; Notice 1]

FCA US, LLC, Receipt of Petition for Decision of Inconsequential Noncompliance

AGENCY: National Highway Traffic Safety Administration (NHTSA), Department of Transportation (DOT).

ACTION: Receipt of petition.

SUMMARY: FCA US LLC (f/k/a Chrysler Group LLC) “FCA US” has determined that certain model year (MY) 2017-2018 Alfa Romeo Giulia motor vehicles do not fully comply with Federal Motor Vehicle Safety Standard (FMVSS) No. 110, Tire Selection and Rims and Motor Home/Recreation Vehicle Trailer Load Carrying Capacity Information for Motor Vehicles with a GVWR of 4,536 Kilograms (10,000 Pounds) or Less. FCA US filed a noncompliance report dated June 6, 2019. FCA US subsequently petitioned NHTSA on June 28, 2019, for a decision that the subject noncompliance is inconsequential as it relates to motor vehicle safety. This document announces receipt of FCA US's petition.

DATES: The closing date for comments on the petition is July 13, 2020.

ADDRESSES: Interested persons are invited to submit written data, views, and arguments on this petition. Comments must refer to the docket number and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview: FCA US has determined that certain MY 2017-2018 Alfa Romeo Giulia motor vehicles do not fully comply with paragraph S4.3(c) of FMVSS No. 110, Tire Selection and Rims and Motor Home/Recreation Vehicle Trailer Load Carrying Capacity Information for Motor Vehicles with a GVWR of 4,536 Kilograms (10,000 Pounds) or Less (49 CFR 571.110). FCA US filed a noncompliance report dated June 6, 2019, pursuant to 49 CFR part 573, Defect and Noncompliance Responsibility and Reports. FCA US subsequently petitioned NHTSA on June 28, 2019, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of FCA US's petition, is published under 49 U.S.C. 30118 and 30120 and does not represent any agency decision or other exercises of judgment concerning the merits of the petition.

II. Equipment and Vehicles Involved: Approximately 16,332 MY 2017-2018 Alfa Romeo Giulia motor vehicles, manufactured between September 7, 2016, and August 2, 2018, are potentially involved.

III. Noncompliance: FCA US explains that the noncompliance is that the subject vehicles are equipped with vehicle placards that display the incorrect manufacturer's recommended cold tire inflation pressures as required by paragraph S4.3(c) of FMVSS No. 110 for the three available tires sizes that can be installed on the vehicles. Specifically, the vehicle placards show for: (1) Rear tires sized at 225/45R18 and a 91V rating labeled with an incorrect inflation pressure of 35 pounds per square inch (PSI) instead of the correct inflation pressure of 36 PSI; (2) rear tires sized at 225/40R19 and a 93V rating labeled with an incorrect inflation pressure of 37 PSI instead of the correct inflation pressure of 39 PSI; and (3) rear tires sized at 225/35R19 92W and 92Y tires labeled with an incorrect inflation pressure of 33 PSI instead of the correct inflation pressure of 35 PSI.

IV. Rule Requirements: Paragraph S4.3(c) of FMVSS No. 110 includes the requirements relevant to this petition. Each vehicle, except for a trailer or incomplete vehicle, shall show the information specified in paragraph S4.3(a) through (g). A vehicle manufacturer's recommended cold tire inflation pressure for the front, rear, and spare tires, are subject to the limitations of paragraph S4.3.4. For full-size spare tires, the statement “see above” may, at the manufacturer's option, replace manufacturer's recommended cold tire inflation pressure.

V. Summary of FCA US's Petition: The following views and arguments presented in this section, V. Summary of FCA US's petition, are the views and arguments provided by FCA US. They have not been evaluated by the Agency and do not reflect the views of the Agency.

FCA US described the subject noncompliance and stated that the noncompliance is inconsequential as it relates to motor vehicle safety. FCA US submitted the following views and arguments in support of the petition:

1. The incorrect pressure values are all within the range of acceptable tire inflation and would not cause a Tire Pressure Monitoring System (TPMS) alert.

• The affected Alfa Romeo Giulia vehicles are FMVSS No. 138 compliant.

• Consistent with FMVSS No. 138, the TPMS illuminates at equal to or less than the pressure 25 percent below the correct vehicle manufacturer's recommended cold inflation pressure. The TPMS warning telltale will illuminate prior to the tire pressure dropping to the range of 26-29 PSI on the affected Alfa Romeo Giulia vehicles, which is significantly above the 20 PSI requirement called out and tested to in FMVSS No. 139. FCA US believes the warning provided by the TPMS will give drivers ample time to check and inflate tires well before low tire inflation becomes a safety concern.

2. The subject tires passed a low inflation pressure performance test.

• The affected Alfa Romeo Giulia vehicles are equipped with tires that are FMVSS No. 139 compliant.

• Tire manufacturers are required to certify the tires meet all applicable requirements of FMVSS No. 139.

• FMVSS No. 139 specifies a low inflation pressure performance test in which the tire is loaded to its maximum tire load capacity and inflated to only 140 kPa (20 PSI), significantly less than the TPMS telltale activation pressure for the subject Alfa Romeo Giulia vehicles. In order to pass this test, the tires are loaded to 100 percent of the tire's maximum load-carrying capacity and then run on a test axle for 1.5 hours at 20 PSI.

3. FCA US is not aware of any crashes, injuries, or customer complaints associated with the condition.

4. NHTSA has previously granted inconsequential treatment for FMVSS No. 110 noncompliance for incorrect vehicle placard values; see examples below.

• MY 2018 Buick Regal, See 84 FR 25117;

• MY 2016 Volkswagen Beetle Convertible, See 81 FR 88728; and

• MY 2016-2017 Mercedes Benz GLE and GLS, See 84 FR 25118.

FCA US concluded that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA US no longer controlled at the time it determined that the noncompliance existed. However, any decision on this petition does not relieve vehicle distributors and dealers of the prohibitions on the sale, offer for sale, or introduction or delivery for introduction into interstate commerce of the noncompliant vehicles under their control after FCA US notified them that the subject noncompliance existed.

Authority: 49 U.S.C. 30118, 30120: delegations of authority at 49 CFR 1.95 and 501.8.

Otto G. Matheke III,
Director, Office of Vehicle Safety Compliance.

[FR Doc. 2020-12715 Filed 6-11-20; 8:45 am]

BILLING CODE 4910-59-P